DEPARTMENT OF TRANSPORTATION

Federal Transit Administration

Preparation of an Environmental Impact Statement for the Dumbarton Rail Corridor Project in the Southern Portion of the San Francisco Bay Area, CA

AGENCY: Federal Transit Administration (FTA), Department of Transportation (DOT).

ACTION: Notice of Intent (NOI) to prepare Environmental Impact Statement (EIS).

SUMMARY: The Federal Transit Administration and the Peninsula Corridor Joint Powers Board (PCJPB) are planning to prepare an Environmental Impact Statement/Environmental Impact Report for the Dumbarton Rail Corridor (DRC) Project, an approximately 21-mile commuter rail extension on existing rail alignment to provide commuter rail service between the Peninsula and the East Bay across the southern part of the San Francisco Bay. The EIS will be prepared in accordance with regulations implementing the National Environmental Policy Act (NEPA) as well as provisions of the recently enacted Safe, Accountable, Flexible, Efficient Transportation Equity Act: A Legacy for Users. The purpose of this Notice of Intent is to alert interested parties regarding the plan to prepare the EIS, to provide information on the proposed transit project, to invite participation in the EIS process, including comments on the scope of the EIS proposed in this notice, and to announce that public scoping meetings will be conducted.

DATES: Written comments on the scope of the EIS should be sent to Marie Pang, PCJPB Environmental Manager, by November 30, 2006. Public scoping meetings will be held on November 15, 2006 and November 16, 2006 from 6:30 p.m. to 8:30 p.m. at locations indicated under ADDRESSES below. An interagency scoping meeting for agencies with an interest in the proposed project will be held on November 16, 2006 from 3 p.m. to 5 p.m. at the West Bay location listed below.

ADDRESSES: Written comments on the scope of the EIS should be sent to Marie Pang, Environmental Manager, Peninsula Corridor Joint Powers Board, P.O. Box 3006, San Carlos, CA 94070-1306. Comments may also be offered at the public scoping meetings. The addresses for the public scoping meetings are as follows:

East Bay Location: Wednesday, November 15, 2006, Newark Community Center, 35501 Cedar Blvd, Newark, CA 94560.

West Bay Location: Thursday, November 16, 2006, City of Menlo Park Senior Center, 110 Terminal Avenue, Menlo Park, CA 94025.

The meeting facilities will be accessible to persons with disabilities. If special translation or signing services or other special accommodations are needed, please contact Beth Altshuler at 510-845-7549, ext. 165 at least 48 hours before the scoping meeting.

FOR FURTHER INFORMATION CONTACT: Jerome Wiggins, Transportation Program Specialist, of the Federal Transit Administration's San Francisco Regional Office at (415) 744-3115.

SUPPLEMENTARY INFORMATION: The Proposed Project: The Dumbarton Rail Corridor Project proposes to provide east-west commuter rail service across the southern section of the S.F. Bay. This would be accomplished by primarily rehabilitating and reconstructing rail facilities on existing alignment and right-of-way. The alignment consists of two parts. The first part is an existing 11-mile rail corridor extending east along the former Southern Pacific Centerville line from Redwood Junction in San Mateo County across the Dumbarton and Newark Slough Railroad Bridges to the Newark Junction in Alameda County. It is owned by the San Mateo County Transit District (Samtrans). The second part is an existing 10-mile rail corridor owned by the Union Pacific Railroad (UPRR), extending from Newark Junction east along the Niles subdivision through Union City to the UPRR Oakland subdivision rail corridor at Industrial Parkway. The project also includes the construction of a train layover yard on the east side and three new stations: Willow Road Station (Menlo Park/East Palo Alto), Newark Station, and the Union City Intermodal Station.

Service will consist of six daily trains originating from Union City in the morning peak period and traveling westward across the Dumbarton Rail Corridor, The trains converge with the existing Caltrain line in the West Bay. From the Caltrain line, three of the trains will travel north to San Francisco while the other three trains will travel south to San Jose. During the afternoon peak period, all trains will travel eastbound back to Union City. The three new stations plus the Centerville Station in Fremont would be directly served by DRC trains. The Capitol Corridor trains would also be served by the Union City Intermodal, Newark and Centerville stations. The ACE trains would be served by the Newark and Centerville stations.

Purpose and Need for the Proposed Project: In March 2004, the voters of the Bay Area counties passed the Regional Traffic Relief Plan, also known as Regional Measure 2 (RM2) to fund a variety of transportation improvements to help relieve traffic congestion and enhance the convenience and reliability of the region's public transit system by raising bridge tolls. RM2 includes funding for the proposed DRC Project. This project is included in the 2007 Transportation Improvement Program (TIP) adopted by the Metropolitan Transportation Commission (MTC) on October 2, 2006.

A connection is needed to address transportation issues and deficiencies related to highway congestion, transit, population and employment, and air quality in the corridor. The purpose of the proposed Dumbarton Rail Corridor Project is to use existing rail infrastructure to provide an east-west rail connection in the southern portion of the San Francisco Bay, connecting the communities of the East Bay and the West Bay.

Alternatives: In addition to the No Action Alternative, two rail alternatives and one bus alternative are proposed to be evaluated in the EIS. An Alternatives Analysis was conducted to identify the most feasible rail and bus alternatives to be carried forward into detailed environmental studies. The Alternatives Analysis study process was directed and guided by a Technical Advisory Committee (TAC) and a Policy Advisory Committee (PAC). These committees consisted of representatives from state, regional and county transportation/transit agencies, as well as the affected cities on both sides of the Bay. The Alternatives Analysis report was approved by the Policy Advisory Committee on June 20, 2006. The final report is available on the official Dumbarton Rail Corridor Project Web site at www.caltrain.com/dumbartonrail.

The alternatives under consideration are:

(1) No Action—The Dumbarton Express bus service will continue to be the only commuter transit between the East Bay and the Peninsula that crosses the southern portion of the Bay.

(2) Alternative A—DRC trackage, connecting to the existing Caltrain Corridor on the Peninsula at Redwood Junction, will cross the San Francisco Bay via the Dumbarton Railroad Bridge, run through Newark and connect to existing tracks that run north to Union City. The track improvements will include the Shinn Connection and the Industrial Parkway Connection, which will connect the DRC with ACE and Capitol Corridor trains in Fremont and Union City in the East Bay. A train storage and layover yard will be constructed. Two locations are under consideration. Three new stations will be constructed at Union City, Newark and Menlo Park. The Centerville Station in Fremont would be upgraded. Reconstruction of the marine bridges crossing the San Francisco Bay includes replacement of the Dumbarton and the Newark Slough moveable bridges and the modification of the Henderson Underpass. New railroad signals and a Centralized Traffic Control system will be provided to control movements onto and through the Dumbarton Rail Corridor.

(3) Alternative B—The same as Alternative A, with the addition of the Niles Junction Connection. The freight traffic through the Fremont Centerville station will be decreased by re-routing freight trains between the Oakland Subdivision and the Niles Subdivision over the new Niles Junction Connection.

(4) Bus Alternative—This alternative proposes a new bus route that originates in Union City, crosses the Dumbarton Highway Bridge (Route 84), and travels to Redwood Shores.

This alternative could serve as the initial start-up phase of an expanded bus service across the Dumbarton Highway Bridge. The expanded service would extend northward to Foster City, Millbrae, Oyster Point and Brisbane on the Peninsula.

The EIS Process and the Role of Participating Agencies and the Public: The purpose of the EIS process is to explore in a public setting potentially significant effects of implementing the proposed action and alternatives on the physical, human, and natural environment. Areas of investigation include, but are not limited to, land use, environmental justice, historic resources, visual and aesthetic qualities, air quality, noise and vibration, energy use, traffic, safety and security, wetlands, threatened and endangered species, and hazardous materials. Regulations implementing NEPA, as well as provisions of the recently enacted Safe, Accountable, Flexible, Efficient Transportation Equity Act: A Legacy for Users (SAFETEA-LU), call for public involvement in the EIS process. Section 6002 of SAFETEA-LU requires that FTA and PCJPB do the following: (1) Extend an invitation to other Federal and non-Federal agencies and Indian tribes that may have an interest in the proposed project to become “participating agencies”, (2) provide an opportunity for involvement by participating agencies and the public in helping to define the purpose and need for a proposed project, as well as the range of alternatives for consideration in the impact statement, and (3) establish a plan for coordinating public and agency participation in and comment on the environmental review process. An invitation to become a participating agency, with the scoping information packet appended, will be extended to other Federal and non-Federal agencies and Indian tribes that may have an interest in the proposed project. It is possible that we may not be able to identify all Federal and non-Federal agencies and Indian tribes that may have such an interest. Any Federal or non-Federal agency or Indian tribe interested in the proposed project that does not receive an invitation to become a participating agency should notify, at the earliest opportunity, the Environmental Manager identified above under ADDRESSES.

A comprehensive public involvement program has been developed. A Policy Advisory Committee (PAC) consisting of local and county officials and a Project Development Team consisting of representatives of state, regional and local agencies are already in place. A Community Advisory Committee will be established. The program also includes a public scoping process, public hearings on release of the Draft Environmental Impact Statement (DEIS), development of project newsletters and their distribution and posting on the project Web site.

We invite the public and participating agencies to consider the preliminary statement of purposes of and need for the proposed project, as well as the alternatives proposed for consideration. Comments on potential significant environmental impacts that may be associated with the proposed project are also welcomed. All comments and suggestions will be given serious consideration.

In accordance with 23 CFR 771.105(a) and 771.133, FTA will comply with all Federal environmental laws, regulations and executive orders applicable to the proposed project during the environmental review process to the maximum extent practicable. These requirements include, but are not limited to, the regulations of the Council on Environmental Quality implementing NEPA (40 CFR parts 1500-1508 and 23 CFR part 771), the project-level air quality conformity regulation of the U.S. Environmental Protection Agency (EPA) (40 CFR part 93), section 404(b)(1) guidelines of EPA (40 CFR part 230), Executive Orders 11988, 11990 and 12898 regarding floodplains, wetlands, and environmental justice, respectively, Section 106 of the National Historic Preservation Act (36 CFR Part 800), Section 7 of the Endangered Species Act (50 CFR part 402), and section 4(f) of the Department of Transportation Act (23 CFR 771.135).

Issued on: October 26, 2006.
Leslie T. Rogers,
Regional Administrator, FTA, Region 9.

[FR Doc. E6-18393 Filed 10-31-06; 8:45 am]

BILLING CODE 4910-57-P